DEPARTMENT OF THE INTERIOR

National Park Service

Wrangell-St. Elias National Park and Preserve, Alaska; Proposed Mining Plan of Operations

AGENCY: National Park Service, Interior.

ACTION: Availability of proposed mining plan of operations.

SUMMARY: The National Park Service (NPS) announces the availability of a proposed mining plan of operations. Pursuant to the provisions of Section 2 of the Mining in the Parks Act of September 28, 1976, 16 U.S.C. 1901 et seq., and in accordance with the provisions of Section 9.17 of Title 36 Code of Federal Regulations Part 9, Subpart A, Kirk Stanley has filed a proposed mining plan of operations on patented lode mining claims known as the Nabesna Mine, USMS 1591 within Wrangell-St. Elias National Preserve.

DATES: Indefinite.

ADDRESSES: The proposed mining plan of operations is available for inspection during normal business hours at the following two locations: (1) Alaska Regional Office, National Park Service, 2525 Gambell Street, Anchorage, Alaska 99503-2892; and (2) Wrangell-St. Elias National Park and Preserve, P.O. Box 439, Copper Center, Alaska 99573.

FOR FURTHER INFORMATION CONTACT: Danny Rosenkrans, Wrangell-St. Elias National Park and Preserve, P.O. Box 439, Copper Center, Alaska 99573, (907) 822-7228.

Dated: March 28, 2000.
Robert D. Barbee,
Regional Director, Alaska Region.

[FR Doc. 00-8301 Filed 4-4-00; 8:45 am]

BILLING CODE 4310-70-M